COMMITTEE FOR THE IMPLEMENTATION OF TEXTILE AGREEMENTS

Announcement of Import Limits for Certain Cotton, Wool, Man-Made Fiber, Silk Blend and Other Vegetable Fiber Textiles and Textile Products Produced or Manufactured in Taiwan and Amendment of Export Visa and Certification Requirements for Textiles and Textile Products Integrated into GATT 1994 in the First, Second and Third Stage

December 20, 2001

AGENCY: Committee for the Implementation of Textile Agreements (CITA).

ACTION: Issuing a directive to the Commissioner of Customs establishing limits and amending visa requirements.

EFFECTIVE DATE: January 1, 2002.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The import restraint limits for textile products, produced or manufactured in Taiwan and exported during the period January 1, 2002 through December 31, 2002 are based on limits that will be notified to the Textiles Monitoring Body pursuant to the World Trade Organization (WTO) Agreement on Textiles and Clothing (ATC). Taiwan will accede to the WTO on January 1, 2002.

The ATC provides for the staged integration of textiles and textile products into the General Agreement on Tariffs and Trade (GATT) 1994. For WTO members, the first stage of the integration took place on January 1, 1995 and the second stage took place on January 1, 1998. The products to be integrated in each stage were announced on April 26, 1995 (see 60 FR 21075, published on May 1, 1995 and 63 FR 53881, published on October 7, 1998).

The third stage of the integration will take place on January 1, 2002 (see 60 FR 21075, published on May 1, 1995). The United States will implement the first three stages of integration for Taiwan on that date. Accordingly, certain previously restrained categories have been modified and their limits have been revised. Certain other previously restrained categories have been eliminated. Integrated products will no longer be subject to quota. This directives implements stages one, two and three integration and agreed annual growth, but does not apply accelerated growth. CITA will amend Taiwan’s quotas by applying accelerated growth at a later date.

In the letter published below, the Chairman of CITA directs the Commissioner of Customs to establish the 2002 limits.

The United States will not maintain visa requirements on textiles and textile products that were integrated in stage one, two and three, that were produced or manufactured in Taiwan and exported on or after January 1, 2002. In the letter published below, the Chairman of CITA directs the Commissioner of Customs to eliminate existing visa requirements for textiles and textile products that were integrated on January 1, 1995, January 1, 1998 and January 1, 2002, and exported on or after January 1, 2002, produced or manufactured in Taiwan (see 66 FR 63225, published on December 5, 2001). The existing visa requirements for Taiwan will be maintained for goods exported prior to January 1, 2002. Integrated goods no longer require exempt certification. In addition, the Export Certification System (E/C System) for Taiwan is rescinded effective January 1, 2002.

A description of the textile and apparel categories in terms of HTS numbers is available in the CORRELATION: Textile and Apparel Categories with the Harmonized Tariff Schedule of the United States (see Federal Register notice 66 FR 65178, published on December 18, 2001).

D. Michael Hutchinson,
Acting Chairman, Committee for the Implementation of Textile Agreements.

Committee for the Implementation of Textile Agreements

December 20, 2001

Commissioner of Customs,

Department of the Treasury, Washington, DC 20229.

Dear Commissioner: Pursuant to section 204 of the Agricultural Act of 1956, as amended (7 U.S.C. 1854); Executive Order 11651 of March 3, 1972, as amended; and the Uruguay Round Agreement on Textiles and Clothing (ATC), you are directed to prohibit, effective on January 1, 2002, entry into the United States for consumption and withdrawal from warehouse for consumption of cotton, wool, man-made fiber, silk blend and other vegetable fiber textiles and textile products in the following categories, produced or manufactured in Taiwan and exported during the twelve-month period which begins on January 1, 2002 and extending through December 31, 2002, in excess of the following levels of restraint:

Category | Twelve-month limit
Group I |
200-221, 224, 225/317/326, 226, 227, 300/301, 313-315, 360-363, 369-S ¹, 369-O ², 400-414, 469pt ³, 603, 604, 611, 613/614/615/617, 618, 619/620, 623, 624, 625/626/627/628/629 and 666pt ⁴, as a group | 205,611,995 square meters equivalent.
Sublevels in Group I |
218 | 23,326,223 square meters.
225/317/326 | 41,403,983 square meters.
226 | 7,513,501 square meters.
300/301 | 1,781,052 kilograms of which not more than 1,494,524 kilograms shall be in Category 300; not more than 1,494,524 kilograms shall be in Category 301.
363 | 12,329,235 numbers.
611 | 3,362,222 square meters.
613/614/615/617 | 20,852,171 square meters.
619/620 | 15,326,668 square meters.
625/626/627/628/629 | 19,943,616 square meters.
Group I subgroup |
200, 219, 313, 314, 315, 361, 369-S and 604, as a group | 153,118,428 square meters equivalent.
Within Group I subgroup |
200 | 753,714 kilograms.
219 | 17,153,795 square meters.
313 | 68,671,137 square meters.
314 | 30,555,457 square meters.
315 | 23,413,267 square meters.
361 | 1,514,047 numbers.
369-S | 492,487 kilograms.
604 | 239,325 kilograms.
Group II |
237, 239pt ⁵, 331pt. ⁶, 332, 333/334/335, 336, 338/339, 340-345, 347/348, 351, 352/652, 359-C/659-C ⁷, 659-H ⁸, 359pt. ⁹, 433-438, 445/446, 447/448, 459pt. ¹⁰, 631pt. ¹¹, 633/634/635, 636, 638/639, 640, 641-644, 645/646, 647/648, 651, 659-S ¹², 659pt. ¹³, 846 and 852, as a group | 621,535,524 square meters equivalent.
Sublevels in Group II |
237 | 736,389 dozen.
239pt. | 1,346,848 kilograms.
331pt. | 143,982 dozen pairs.
336 | 125,460 dozen.
338/339 | 831,284 dozen.
340 | 1,123,393 dozen.
345 | 131,090 dozen.
347/348 | 1,064,931 dozen of which not more than 1,064,931 dozen shall be in Categories 347-W/348-W ¹⁴.
352/652 | 3,328,576 dozen.
359-C/659-C | 1,447,633 kilograms.
659-H | 2,069,969 kilograms.
433 | 15,701 dozen.
434 | 10,904 dozen.
435 | 25,889 dozen.
436 | 5,155 dozen.
438 | 29,095 dozen.
440 | 5,636 dozen.
442 | 43,871 dozen.
443 | 43,961 numbers.
444 | 62,611 numbers.
445/446 | 138,149 dozen.
633/634/635 | 1,634,440 dozen of which not more than 959,317 dozen shall be in Categories 633/634 and not more than 850,077 dozen shall be in Category 635.
638/639 | 6,565,058 dozen.
640 | 1,058,909 dozen of which not more than 281,710 dozen shall be in Category 640-Y ¹⁵.
642 | 777,133 dozen.
643 | 523,166 numbers.
644 | 798,870 numbers.
645/646 | 4,107,691 dozen.
647/648 | 5,248,544 dozen of which not more than 5,248,544 dozen shall be in Categories 647-W/648-W ¹⁶.
659-S | 1,601,702 kilograms.
Group II Subgroup |
333/334/335, 341, 342, 351, 447/448, 636, 641 and 651, as a group | 72,524,979 square meters equivalent.
Within Group II Subgroup |
333/334/335 | 322,771 dozen of which not more than 174,835 dozen shall be in Category 335.
341 | 345,045 dozen.
342 | 215,550 dozen.
351 | 358,605 dozen.
447/448 | 21,454 dozen.
636 | 395,136 dozen.
641 | 733,276 dozen of which not more than 256,646 dozen shall be in Category 641-Y ¹⁷.
651 | 449,715 dozen.
Group III |
Sublevel in Group III |
845 | 854,623 dozen.
¹ Category 369-S: only HTS number 6307.10.2005.
² Category 369-O: all HTS numbers except 6307.10.2005 (Category 369-S); and 4202.12.4000, 4202.12.8020, 4202.12.8060, 4202.22.4020, 4202.22.4500, 4202.22.8030, 4202.32.4000, 4202.32.9530, 4202.92.1500, 4202.92.3016, 4202.92.6091, 5601.10.1000, 5601.21.0090, 5701.90.1020, 5701.90.2020, 5702.10.9020, 5702.39.2010, 5702.49.1020, 5702.49.1080, 5702.59.1000, 5702.99.1010, 5702.99.1090, 5705.00.2020, 5805.00.3000, 5807.10.0510, 5807.90.0510, 6301.30.0010, 6301.30.0020, 6302,51.1000, 6302.51.2000, 6302.51.3000, 6302.51.4000, 6302.60.0010, 6302.60.0030, 6302.91.0005, 6302.91.0025, 6302.91.0045, 6302.91.0050, 6302.91.0060, 6303.11.0000, 6303.91.0010, 6303.91.0020, 6304.91.0020, 6304.92.0000, 6305.20.0000, 6306.11.0000, 6307.10.1020, 6307.10.1090, 6307.90.3010, 6307.90.4010, 6307.90.5010, 6307.90.8910, 6307.90.8945, 6307.90.9905, 6307.90.9982, 6406.10.7700, 9404.90.1000, 9404.90.8040 and 9404.90.9505 (Category 369pt.).
³ Category 469pt.: all HTS numbers except 5601.29.0020, 5603.94.1010, 6304.19.3040, 6304.91.0050, 6304.99.1500, 6304.99.6010, 6308.00.0010 and 6406.10.9020.
⁴ Category 666pt.: all HTS numbers except 5805.00.4010, 6301.10.0000, 6301.40.0010, 6301.40.0020, 6301.90.0010, 6302.53.0010, 6302.53.0020, 6302.53.0030, 6302.93.1000, 6302.93.2000, 6303.12.0000, 6303.19.0010, 6303.92.1000, 6303.92.2010, 6303.92.2020, 6303.99.0010, 6304.11.2000, 6304.19.1500, 6304.19.2000, 6304.91.0040, 6304.93.0000, 6304.99.6020, 6307.90.9984, 9404.90.8522 and 9404.90.9522.
⁵ Category 239pt.: only HTS number 6209.20.5040 (diapers).
⁶ Category 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510.
⁷ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
⁸ Category 659-H: only HTS numbers 6502.00.9030, 6504.00.9015, 6504.00.9060, 6505.90.5090, 6505.90.6090, 6505.90.7090 and 6505.90.8090.
⁹ Category 359pt.: all HTS numbers except 6103.42.2025, 6103.49.8034, 6104.62.1020, 6104.69.8010, 6114.20.0048, 6114.20.0052, 6203.42.2010, 6203.42.2090, 6204.62.2010, 6211.32.0010, 6211.32.0025 and 6211.42.0010 (Category 359-C); 6115.19.8010, 6117.10.6010, 6117.20.9010, 6203.22.1000, 6204.22.1000, 6212.90.0010, 6214.90.0010, 6406.99.1550, 6505.90.1525, 6505.90.1540, 6505.90.2060, 6505.90.2545.
¹⁰ Category 459pt.: all HTS numbers except 6115.19.8020, 6117.10.1000, 6117.10.2010, 6117.20.9020, 6212.90.0020, 6214.20.0000, 6405.20.6030, 6405.20.6060, 6405.20.6090, 6406.99.1505, 6406.99.1560.
¹¹ Category 631pt.: all HTS numbers except 6116.10.1730, 6116.10.4820, 6116.10.5520, 6116.10.7520, 6116.93.8800, 6116.93.9400, 6116.99.4800, 6116.99.5400 and 6116.99.9530.
¹² Category 659-S: only HTS numbers 6112.31.0010, 6112.31.0020, 6112.41.0010, 6112.41.0020, 6112.41.0030, 6112.41.0040, 6211.11.1010, 6211.11.1020, 6211.12.1010 and 6211.12.1020.
¹³ Category 659pt.: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6112.31.0010, 6112.31.0020, 6112.41.0010, 6112.41.0020, 6112.41.0030, 6112.41.0040, 6211.11.1010, 6211.11.1020, 6211.12.1010 and 6211.12.1020 (Category 659-S); 6115.11.0010, 6115.12.2000, 6117.10.2030, 6117.20.9030, 6212.90.0030, 6214.30.0000, 6214.40.0000, 6406.99.1510, 6406.99.1540.
¹⁴ Category 347-W: only HTS numbers 6203.19.1020, 6203.19.9020, 6203.22.3020, 6203.22.3030, 6203.42.4005, 6203.42.4010, 6203.42.4015, 6203.42.4025, 6203.42.4035, 6203.42.4045, 6203.42.4050, 6203.42.4060, 6203.49.8020, 6210.40.9033, 6211.20.1520, 6211.20.3810 and 6211.32.0040; Category 348-W: only HTS numbers 6204.12.0030, 6204.19.8030, 6204.22.3040, 6204.22.3050, 6204.29.4034, 6204.62.3000, 6204.62.4005, 6204.62.4010, 6204.62.4020, 6204.62.4030, 6204.62.4040, 6204.62.4050, 6204.62.4055, 6204.62.4065, 6204.69.6010, 6204.69.9010, 6210.50.9060, 6211.20.1550, 6211.20.6810, 6211.42.0030 and 6217.90.9050.
¹⁵ Category 640-Y: only HTS numbers 6205.30.2010, 6205.30.2020, 6205.30.2050 and 6205.30.2060.
¹⁶ Category 647-W: only HTS numbers 6203.23.0060, 6203.23.0070, 6203.29.2030, 6203.29.2035, 6203.43.2500, 6203.43.3500, 6203.43.4010, 6203.43.4020, 6203.43.4030, 6203.43.4040, 6203.49.1500, 6203.49.2015, 6203.49.2030, 6203.49.2045, 6203.49.2060, 6203.49.8030, 6210.40.5030, 6211.20.1525, 6211.20.3820 and 6211.33.0030; Category 648-W: only HTS numbers 6204.23.0040, 6204.23.0045, 6204.29.2020, 6204.29.2025, 6204.29.4038, 6204.63.2000, 6204.63.3000, 6204.63.3510, 6204.63.3530, 6204.63.3532, 6204.63.3540, 6204.69.2510, 6204.69.2530, 6204.69.2540, 6204.69.2560, 6204.69.6030, 6204.69.9030, 6210.50.5035, 6211.20.1555, 6211.20.6820, 6211.43.0040 and 6217.90.9060.
¹⁷ Category 641-Y: only HTS numbers 6204.23.0050, 6204.29.2030, 6206.40.3010 and 6206.40.3025.

The limits set forth above are subject to adjustment pursuant to the provisions of the ATC and administrative arrangements notified to the Textiles Monitoring Body.

Products exported during 2001 shall be charged to the applicable category limits for that year (see directive dated February 15, 2001) to the extent of any unfilled balances. In the event the limits established for that period have been exhausted by previous entries, such products shall be charged to the limits set forth in this directive.

Taiwanese products integrated into the General Agreement on Tariffs and Trade 1994 in stages one, two and three (listed in the Federal Register notice published on May 1, 1995, 60 FR 21075) which are exported during 2001 shall be charged to the applicable 2001 limits to the extent of any unfilled balances. After January 1, 2002, should those 2001 limits be filled, such products shall no longer be charged to any limit.

The conversion factors are as follows:

Category | Conversion factors (square meters equivalent/category unit)
333/334/335 | 33.75
352/652 | 11.3
359-C/659-C | 10.1
633/634/635 | 34.1
638/639 | 12.5

You are also directed to amend the current visa requirements for certain textiles and textile products produced or manufactured in Taiwan and exported on or after January 1, 2002.

Effective on January 1, 2002, for goods exported on or after January 1, 2002, export visas and exempt certifications will not be required for textiles and textile products produced or manufactured in Taiwan that were integrated into the General Agreement on Tariffs and Trade (GATT) 1994 on January 1, 1995, January 1, 1998 and January 1, 2002 (see directive dated November 29, 2001). Export visas will continue to be required for products integrated on January 1, 2002 from Taiwan that were exported prior to January 1, 2002.

In carrying out the above directions, the Commissioner of Customs should construe entry into the United States for consumption to include entry for consumption into the Commonwealth of Puerto Rico.

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc. 01-31859 Filed 12-27-01; 8:45 am]

BILLING CODE 3510-DR-S